NATIONAL AERONAUTICS AND SPACE ADMINISTRATION

[NOTICE: 23-110]

Name of Information Collection: Property Inventory Report—Grants With Educational and Nonprofit Entities

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by January 2, 2024

ADDRESSES: Written comments and recommendations for this information collection should be sent within 60 days of publication of this notice to www.reginfo.gov/public/do/PRAMain.Find this particular information collection by selecting “Currently under 60-day Review-Open for Public Comments” or by using the search function.

FOR FURTHER INFORMATION CONTACT: Requests for additional information or copies of the information collection instrument(s) and instructions should be directed to Bill Edwards-Bodmer, NASA Clearance Officer, NASA Headquarters, 300 E Street SW, JF0000, Washington, DC 20546, 757-864-7998, or b.edwards-bodmer@nasa.gov.

SUPPLEMENTARY INFORMATION:

I. Abstract

The information submitted by recipients is an annual report of Government-owned property in the possession of educational or nonprofit institutions holding NASA grants. In addition to the annual report, a property report may also be required at the end of the grant, or on the occurrence of certain events. The collected information is used by NASA to effectively maintain an appropriate internal control system for equipment and property provided or acquired under grants and cooperative agreements with institutions of higher education and other nonprofit organizations, and to comply with statutory requirements.

II. Methods of Collection

Grant and Cooperative Agreement awardees submit annual property reports via an automated NASA Form 1018 by way of the NASA Electronic Submission System (NESS).

III. Data

Title: Property Inventory Report—Grants with Educational and Nonprofit Entities.

OMB Number: 2700-0047.

Type of review: Reinstatement without change.

Affected Public: Educational and not-for-profit institutions.

Estimated Annual Number of Activities: 238.

Estimated Number of Respondents per Activity: 1.

Annual Responses: 238.

Estimated Time Per Response: 8.33 hours.

Estimated Total Annual Burden Hours: 1,983 hours.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

William Edwards-Bodmer,
NASA PRA Clearance Officer.

[FR Doc. 2023-24267 Filed 11-2-23; 8:45 am]

BILLING CODE 7510-13-P